DEPARTMENT OF HEALTH AND HUMAN SERVICES

Administration for Children and Families

Grants and Cooperative Agreements; Availability, etc: Developmental Disabilities Programs, Help America Vote Training and Technical Assistance Projects

Federal Agency Name: Administration for Children and Families, Administration on Developmental Disabilities.

Funding Opportunity Title: Help America Vote Act Training and Technical Assistance to Assist Protection and Advocacy Systems to Establish or Improve Voting Access for Individuals with Disabilities.

Announcement Type: Competitive Grant-Initial.

Funding Opportunity Number: HHS-2004-ACF-ADD-DH-0002.

CFDA Number: 93.618.

DATES: Applications are due July 8, 2004. Letters of Intent are due June 23, 2004.

I. Funding Opportunity Description

This announcement is covered under the Help America Vote Act of 2002, Public Law (P.L.) 107-252, title II subtitle D, part 2, section 291 (42 U.S.C. 15461). Provisions under this section provide for the award of grants for Training and Technical Assistance to assist P & A Systems in:

• Promoting full participation in the electoral process for individuals with disabilities, including registering to vote, casting a vote, and accessing polling places;

• Developing proficiency in the use of voting systems and technologies as they affect individuals with disabilities;

• Demonstrating and evaluating the use of such systems and technologies by individuals with disabilities (including blindness) in order to assess the availability and use of such systems and technologies for such individuals; and

• At least one recipient must provide training and technical assistance for non-visual access.

Objectives: Project funds must be used to provide training and technical assistance to Protection & Advocacy Systems in their promotion of self sufficiency and protection of the rights of individuals with disabilities as this affects the establishment or improvement of access to full participation in the voting process.

Background

The Help America Vote Act (HAVA), signed into law by President George W. Bush on October 29, 2002, contains three grant programs that will enable a grantee to establish, expand, and improve access to and participation in the election process by individuals with the full range of disabilities (e.g., visual impairments including blindness, hearing impairments including deafness, the full range of mobility impairments including gross motor and fine motor impairments, emotional impairments, and intellectual impairments).

On January 23, 2004, with the passage of Pub. L. 108-199, Congress appropriated $9,941,000 for States to operate the Election Assistance for Individuals with Disabilities (EAID) grant program; $4,622,565 for payments for Protection and Advocacy systems, and $347,935 (7 percent) for payments to provide training and technical assistance to the Protection & Advocacy Systems with respect to the activities carried out under section 291 of the Help America Vote Act. HAVA assigned responsibility for the EAID to the Secretary of Health and Human Services (the Secretary), who has assigned responsibility for carrying out this program to the Administration for Children and Families (ACF). Within ACF, the Administration on Developmental Disabilities (ADD) is responsible for the administration of the EAID grant program. This announcement pertains to the 7 percent of Protection and Advocacy Systems funds to be used for grants to entities that will provide technical assistance to Protection and Advocacy Systems.

Goals of the Administration on Developmental Disabilities

The Administration on Developmental Disabilities (ADD) is located within the Administration for Children and Families (ACF), Department of Health and Human Services (DHHS). ADD shares goals with other ACF programs that promote the economic and social well-being of families, children, individuals, and communities.

Purpose of the Administration on Developmental Disabilities

The Administration on Developmental Disabilities (ADD) is the lead agency within ACF and HHS responsible for planning and administering programs to promote the self-sufficiency and protect the rights of persons with developmental disabilities. ADD administers the Developmental Disabilities Assistance and Bill of Rights Act of 2000 (the DD Act). The DD Act provides for funding to States to provide advocacy, promote consumer oriented systems change and capacity building activities, and facilitate network formations.

The four programs funded under the DD Act are:

(1) State Councils on Developmental Disabilities that engage in advocacy, capacity building and systematic change activities.

(2) Protection and Advocacy Systems (P&As) that protect the legal and human rights of individuals with developmental disabilities.

(3) The National Network of University Centers for Excellence in Developmental Disabilities, (UCEDD) that engages in training, outreach and dissemination activities.

(4) Projects of National Significance (PNS), including Family Support Grants that support the development of family-centered and directed systems for families of children with disabilities, including children with developmental disabilities.

(5) In addition to responsibilities under the DD Act, ADD has been given the responsibility by the Secretary of the U.S. Department of Health and Human Services for three grant programs authorized under the Help America Vote Act of 2002 (HAVA), Pub. L. 107-252. This announcement is for the HAVA Training and Technical Assistance to Assist Protection and Advocacy Systems to Establish or Improve Voting Access for Individuals with Disabilities program.

II. Award Information

Funding Instrument Type: Grant.

Anticipated total Priority Area Funding: $347,935.

Anticipated Number of Awards: 1-4 per project and budget period.

Ceiling on amount of Individual Awards: $347,935 per project and budget period.

Floor on Individual Award Amounts: $86,984 per project and budget period.

Average projected Award Amount: $86,984 per project and budget period.

Project Periods for Awards: 12-month project and budget periods.

III. Eligibility Information

1. Eligible Applicants

County governments, City or township governments, Special district governments, State controlled institutions of higher education, Native American tribal governments (federally recognized), Non-profit organizations having a 501(c)(3) status with the Internal Revenue Code, other than institutions of higher education, Non-profit organizations that do not have 501(c)(3) status with the Internal Revenue Code, other than institutions of higher education, Private institutions of higher education, and faith-based organizations.

Additional Information on Eligibility:

An applicant is only eligible to receive a payment for this grant if the applicant:

• Is a public or private non-entity with demonstrated experience in voting issues for individuals with disabilities.

• Is governed by a board with respect to which the majority of its members are individuals with disabilities or family members of such individuals or individuals who are blind; and

• Submits to the Secretary (delegated to ACF) an application at such time, in such manner and containing such information as the Secretary (delegated to ACF) may require.

All applications that are developed jointly by more than one agency or organization must identify only one organization as the lead organization and the official applicant. The other participating organizations can be included as co-participants, sub-grantees, or subcontractors.

Any non-profit organization submitting an application must include proof of its non-profit status in its application at the time of submission. The non-profit agency can accomplish this by providing any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement singed by the parent organization that the applicant organization is a local non-profit affiliate.

Applicants are cautioned that the ceiling for individual awards is $347,935.

Applications exceeding the $347,935 threshold will be considered non-responsive and will not be eligible for funding under this announcement.

Applications that are developed jointly by more than one agency or organization that fail to identify only one organization as the lead organization and the official applicant will be considered non-responsive and returned without review.

2. Cost Sharing or Matching—None

3. Other (if Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at­ http://www.dnb.com.

Applicants are cautioned that the ceiling for individual awards is $347,935. Applications exceeding the $347,935 threshold will be considered non-responsive and will not be eligible for funding under this announcement.

Applications that are developed jointly by more than one agency or organization that fail to identify only one organization as the lead organization and the official applicant will be considered non-responsive and returned without review.

Pre-award costs are not allowable charges to this program. Applications that include pre-award costs with their submission will be considered non-responsive and will not be eligible for funding under this announcement.

Construction is not an allowable activity or expenditure under this program. Applications that propose construction projects or expenditures will be considered non-responsive and will not be eligible for funding under this announcement.

IV. Application and Submission Information

1. Address To Request Application Package

U.S. Department of Health and Human Services (HHS), Administration on Developmental Disabilities, 370 L'Enfant Promenade, SW., Mail Stop HHH 405-D, Washington, DC 20447, Attention: Margaret Schaefer, Phone: (202) 690-5962, E-mail: mschaefer@acf.hhs.gov.

2. Content and Form of Application Submission

Letter of Intent

Applicants must submit a letter of intent stating the name of the applicant organization and/or lead organization that will apply for this grant.

The Application

Each application package must include an original and two copies of the complete application. Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

You may submit your application to us either in electronic or paper format. To submit an application electronically, please use the http://www.Grants.gov apply site. If you use Grants.Gov you will be able to download a copy of the application package, complete it off-line, and then upload and submit the application via the Grants.gov site. You may not e-mail an electronic copy of a grant application to us.

Please note the following if you plan to submit your application electronically via Grants. Gov.

• Electronic submission is voluntary.

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.Gov that contains a Grants.Gov tracking number. The Administration for Children and Families will retrieve your application from Grants. Gov.

• We may request that you provide original signatures on forms at a later date.

• You may access the electronic application for this program on http://www.Grants.gov. You must search for the downloadable application package by the CFDA number.

Application Requirements

A complete application consists of the following items in this order:

—Application for Federal Assistance (SF 424, REV 4-92);

—Budget Information—Non-Construction Programs (SF 424A, REV 4-92);

—Budget justification for Section B—Budget Categories;

—Proof of designation as lead agency;

—Table of Contents;

—Letter from the Internal Revenue Service, etc. to prove non-profit status, if necessary;

—Copy of the applicant's approved indirect cost rate agreement, if appropriate;

—Project Summary/Abstract

—Project Narrative

—Any appendices/attachments;

—Assurances—Non-Construction Programs (Standard Form 424B, REV 4-92);

—Certification Regarding Lobbying;

—Certification of Protection of Human Subjects, if necessary; and

—Certification of the Pro-Children Act of 1994 (Environmental Tobacco Smoke), signature on the application represents certification.

Applicants must demonstrate proof of non-profit status and this proof must be included in their applications. Applicants must include any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

Application Format

Length: Applications must not exceed 25 pages.

Instructions for Preparing the Application and Completing Application Forms

The SF 424, SF 424A, SF 424A—Page 2 and Certifications/Assurances are contained in the application package that can be accessed as mentioned earlier in this announcement. Please prepare your application in accordance with the following instructions:

1. SF 424 Page 1, Application Cover Sheet

Please read the following instructions before completing the application cover sheet. An explanation of each item is included. Complete only the items specified.

Top of Page. Please indicate that you are applying for new or implementation funds.

Item 1. “Type of Submission”—Preprinted on the form.

Item 2. “Date Submitted” and “Applicant Identifier”—Date application is submitted to ACF and applicant's own internal control number, if applicable.

Item 3. “Date Received By State”—State use only (if applicable).

Item 4. “Date Received by Federal Agency”—Leave blank.

Item 5. “Applicant Information”.

“Legal Name”—Enter the legal name of applicant organization. For applications developed jointly, enter the name of the lead organization only. There must be a single applicant for each application.

“Organizational Unit”—Enter the name of the primary unit within the applicant's organization that will actually carry out the project activity. Do not use the name of an individual as the applicant. If this is the same as the applicant organization, leave the organizational unit blank.

“Address”—Enter the complete address that the organization actually uses to receive mail, since this is the address to which all correspondence will be sent. Do not include both street address and P.O. Box number unless both must be used in mailing.

“Name and telephone number of the person to be contacted on matters involving this application (give area code)”—Enter the full name (including academic degree, if applicable) and telephone number of a person who can respond to questions about the application. This person should be accessible at the address given here and will receive all correspondence regarding the application.

Item 6. “Employer Identification Number (EIN)”—Enter the employer identification number of the applicant organization, as assigned by the Internal Revenue Service, including, if known, the Central Registry System suffix.

Item 7. “Type of Applicant”—Self-explanatory.

Item 8. “Type of Application”—Preprinted on the form.

Item 9. “Name of Federal Agency”—Preprinted on the form.

Item 10. “Catalog of Federal Domestic Assistance Number and

Title”—Enter the Catalog of Federal Domestic Assistance (CFDA) number assigned to the program under which assistance is requested and its title.

Item 11. “Descriptive Title of Applicant's Project”—Enter the project title. The title is generally short and is descriptive of the project, not the priority area title.

Item 12. “Areas Affected by Project”—Enter the governmental unit where significant and meaningful impact could be observed. List only the largest unit or units affected, such as State, county, or city. If an entire unit is affected, list it rather than subunits.

Item 13. “Proposed Project”—Enter the desired start date for the project and projected completion date.

Item 14. “Congressional District of Applicant/Project”—Enter the number of the Congressional district where the applicant's principal office is located and the number of the Congressional district(s) where the project will be located. If Statewide, a multi-State effort, or nationwide, enter “00.”

Item 15. Estimated Funding Levels.

In completing 15a through 15f, the dollar amounts entered should reflect, for a 12-month project period, the total amount requested.

Item 15a. Enter the amount of Federal funds requested in accordance with the preceding paragraph. This amount should be no greater than the maximum amount specified in the priority area description.

Items 15b-e. Enter the amount(s) of funds from non-Federal sources that will be contributed to the proposed project. Items b-e are considered cost-sharing or “matching funds.” The value of third party in-kind contributions should be included on appropriate lines as applicable. For more information regarding funding as well as exceptions to these rules, see Part III, Sections C and D.

Item 15f. Enter the estimated amount of program income, if any, expected to be generated from the proposed project. Do not add or subtract this amount from the total project amount entered under item 15g. Describe the nature, source and anticipated use of this program income in the Project Narrative Statement.

Item 15g. Enter the sum of items 15a-15e.

Item 16a. “Is Application Subject to Review By State Executive Order 12372 Process? Yes.”—Enter the date the applicant contacted the SPOC regarding this application. Select the appropriate SPOC from the listing provided online at http://www.whitehouse.gov/ omb/grants/spoc.html. The review of the application is at the discretion of the SPOC. The SPOC will verify the date noted on the application.

Item 16b. “Is Application Subject to Review By State Executive Order 12372 Process? No.”—Check the appropriate box if the application is not covered by E.O. 12372 or if the program has not been selected by the State for review.

Item 17. “Is the Applicant Delinquent on any Federal Debt?”—Check the appropriate box. This question applies to the applicant organization, not the person who signs as the authorized representative. Categories of debt include audit disallowances, loans and taxes.

Item 18. “To the best of my knowledge and belief, all data in this application/preapplication are true and correct. The document has been duly authorized by the governing body of the applicant and the applicant will comply with the attached assurances if the assistance is awarded.”—To be signed by the authorized representative of the applicant. A copy of the governing body's authorization for signature of this application by this individual as the official representative must be on file in the applicant's office, and may be requested from the applicant.

Item 18a-c. “Typed Name of Authorized Representative, Title, Telephone Number”—Enter the name, title and telephone number of the authorized representative of the applicant organization.

Item 18d. “Signature of Authorized Representative” —Signature of the authorized representative named in Item 18a. At least one copy of the application must have an original signature. Use colored ink (not black) so that the original signature is easily identified.

Item 18e. “Date Signed”—Enter the date the application was signed by the authorized representative.

2. SF 424A—Budget Information—Non-Construction Programs

This is a form used by many Federal agencies. For this application, Sections A, B, C, E and F are to be completed. Section D does not need to be completed.

Sections A and B should include the Federal as well as the non-Federal funding for the proposed project covering (1) the total project period of 17 months or less or (2) the first year budget period, if the proposed project period exceeds 15 months.

Section A—Budget Summary. This section includes a summary of the budget. On line 5, enter total Federal costs in column (e) and total non-Federal costs (none for these projects), including third party in-kind contributions, but not program income, in column (f). Enter the total of (e) and (f) in column (g).

Section B—Budget Categories. This budget, which includes the Federal as well as non-Federal funding for the proposed project (none for these projects), covers the total project period of 12 months or less. It should relate to item 15g, total funding, on the SF 424. Under column (5), enter the total requirements for funds (Federal and non-Federal [none]) by object class category.

A separate budget justification should be included to fully explain and justify major items, as indicated below. The types of information to be included in the justification are indicated under each category. For multiple year projects, it is desirable to provide this information for each year of the project. The budget justification should immediately follow the second page of the SF 424A.

Personnel—Line 6a. Enter the total costs of salaries and wages of applicant/grantee staff. Do not include the costs of consultants; this should be included on line 6h, “Other.”

Justification: Identify the principal investigator or project director, if known. Specify by title or name the percentage of time allocated to the project, the individual annual salaries, and the cost to the project (both Federal and non-Federal) of the organization's staff who will be working on the project.

Fringe Benefits—Line 6b. Enter the total costs of fringe benefits, unless treated as part of an approved indirect cost rate.

Justification: Provide a break-down of amounts and percentages that comprise fringe benefit costs, such as health insurance, FICA, retirement insurance, etc.

Travel—6c. Enter total costs of out-of-town travel (travel requiring per diem) for staff of the project. Do not enter costs for consultant's travel or local transportation, which should be included on Line 6h, “Other.”

Justification: Include the name(s) of traveler(s), total number of trips, destinations, length of stay, transportation costs and subsistence allowances.

Equipment—Line 6d. Enter the total costs of all equipment to be acquired by the project. For state and local governments, including Federally recognized Indian Tribes, “equipment” is tangible, non-expendable personal property having a useful life of more than one year and acquisition cost of $5,000 or more per unit.

Justification: Equipment to be purchased with Federal funds must be justified. The equipment must be required to conduct the project, and the applicant organization or its sub grantees must not have the equipment or a reasonable facsimile available to the project. The justification also must contain plans for future use or disposal of the equipment after the project ends.

Supplies—Line 6e. Enter the total costs of all tangible expendable personal property (supplies) other than those included on Line 6d.

Justification: Specify general categories of supplies and their costs.

Contractual—Line 6f. Enter the total costs of all contracts, including (1) procurement contracts (except those which belong on other lines such as equipment, supplies, etc.) and (2) contracts with secondary recipient organizations, including delegate agencies. Also include any contracts with organizations for the provision of technical assistance. Do not include payments to individuals on this line. If the name of the contractor, scope of work, and estimated total costs are not available or have not been negotiated, include on Line 6h, “Other.”

Justification: Attach a list of contractors, indicating the names of the organizations, the purposes of the contracts, and the estimated dollar amounts of the awards as part of the budget justification. Whenever the applicant/grantee intends to delegate part or the entire program to another agency, the applicant/grantee must complete this section (Section B, Budget Categories) for each delegate agency by agency title, along with the supporting information. The total cost of all such agencies will be part of the amount shown on Line 6f. Provide backup documentation identifying the name of contractor, purpose of contract, and major cost elements.

Construction—Line 6g. Not applicable. New construction is not allowable.

Other—Line 6h. Enter the total of all other costs. Where applicable, such costs may include, but are not limited to: Insurance; medical and dental costs; noncontractual fees and travel paid directly to individual consultants; local transportation (all travel which does not require per diem is considered local travel); space and equipment rentals; printing and publication; computer use; training costs, including tuition and stipends; training service costs, including wage payments to individuals and supportive service payments; and staff development costs. Note that costs identified as “miscellaneous” and “honoraria” are not allowable.

Justification: Specify the costs included.

Total Direct Charges—Line 6i. Enter the total of Lines 6a through 6h.

Indirect Charges—6j. Enter the total amount of indirect charges (costs). If no indirect costs are requested, enter “none.” Generally, this line should be used when the applicant (except local governments) has a current indirect cost rate agreement approved by the Department of Health and Human Services or another Federal agency.

Local and State governments should enter the amount of indirect costs determined in accordance with DHHS requirements. When an indirect cost rate is requested, these costs are included in the indirect cost pool and should not be charged again as direct costs to the grant.

In the case of training grants to other than State or local governments (as defined in title 45, Code of Federal Regulations, part 74), the Federal reimbursement of indirect costs will be limited to the lesser of the negotiated (or actual) indirect cost rate or 8 percent of the amount allowed for direct costs, exclusive of any equipment charges, rental of space, tuition and fees, post-doctoral training allowances, contractual items, and alterations and renovations.

For training grant applications, the entry under line 6j should be the total indirect costs being charged to the project. The Federal share of indirect costs is calculated as shown above. The applicant's share is calculated as follows:

(a) Calculate total project indirect costs (a*) by applying the applicant's approved indirect cost rate to the total project (Federal and non-Federal) direct costs.

(b) Calculate the Federal share of indirect costs (b*) at 8 percent of the amount allowed for total project (Federal and non-Federal) direct costs exclusive of any equipment charges, rental of space, tuition and fees, post-doctoral training allowances, contractual items, and alterations and renovations.

(c) Subtract (b*) from (a*). The remainder is what the applicant can claim as part of its matching cost contribution.

Justification: Enclose a copy of the indirect cost rate agreement.

Applicants subject to the limitation on the Federal reimbursement of indirect costs for training grants should specify this.

Total—Line 6k. Enter the total amounts of lines 6i and 6j.

Program Income—Line 7. Enter the estimated amount of income, if any, expected to be generated from this project. Do not add or subtract this amount from the total project amount.

Justification: Describe the nature, source, and anticipated use of program income in the Program Narrative Statement.

Section C—Non-Federal Resources. This section summarizes the amounts of non-Federal resources that will be applied to the grant. Enter this information on line 12 entitled “Totals.” In-kind contributions are defined in title 45 of the Code of Federal Regulations, Parts 74.51 and 92.24, as “property or services which benefit a grant-supported project or program and which are contributed by non-Federal third parties without charge to the grantee, the sub grantee, or a cost-type contractor under the grant or sub grant.”

Justification: Describe third party in-kind contributions, if included.

Section D—Forecasted Cash Needs. Not applicable.

Section E—Budget Estimate of Federal Funds Needed for Balance of the Project. This section should only be completed if the total project period exceeds 17 months.

Totals—Line 20. For projects that will have more than one budget period, enter the estimated required Federal funds for the second budget period (months 13 through 24) under column “(b) First.” If a third budget period will be necessary, enter the Federal funds needed for months 25 through 36 under “(c) Second.” Columns (d) and (e) are not applicable in most instances, since ACF funding is almost always limited to a three-year maximum project period. They should remain blank.

Section F—Other Budget Information.

Direct Charges—Line 21. Not applicable.

Indirect Charges—Line 22. Enter the type of indirect rate (provisional, predetermined, final or fixed) that will be in effect during the funding period, the estimated amount of the base to which the rate is applied, and the total indirect expense.

Project Summary/Abstract

Clearly mark this separate page with the applicant's name as shown in item 5 of the SF 424, the priority area number as shown at the top of the SF 424, and the title of the project as shown in item 11 of the SF 424. The summary description should not exceed 300 words. These 300 words become part of the computer database on each project. Provide a summary description that accurately and concisely reflects the proposal. The summary should describe the objectives of the project, the approaches to be used and the expected outcomes. The description should also include a list of major products that will result from the proposed project, such as software packages, materials, management procedures, data collection instruments, training packages, or videos (please note that audiovisuals must be closed captioned and audio described). The project summary description, together with the information on the SF 424, will constitute the project “abstract.” This is a major source of information about the proposed project and is usually the first part of the application that the reviewers read in evaluating the application.

Forms and Certifications

The applicant must complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B; and Certifications may be found at: http://www.acf.hhs.gov/programs/ofs/forms.htm under new announcements. Fill out Standard Forms 424 and 424A and the associated certifications and assurances based on the instructions on the forms.

Private, non-profit organizations are encouraged to submit with their applications the survey located under “Grant Related Documents and Forms” titled “Survey for Private, Non-Profit Grant Applicants.” The forms are located on the Web at http://www.acf.hhs.gov/programs/ofs/forms.htm.

3. Submission Dates and Times

Letters of Intent are due on June 23, 2004 at the following address: U.S. Department of Health and Human Services (HHS), Administration on Developmental Disabilities, 370 L'Enfant Promenade, SW., Mail Stop 405-D, Humphrey Building, Washington, DC 20447, Attention: Margaret Schaefer, Phone: (202) 690-5962, E-mail: mschaefer@acf.hhs.gov.

The closing time and date for receipt of applications is 4:30 p.m. (Eastern Standard Time) on July 8, 2004. Mailed or hand carried applications received after 4:30 p.m. on the closing date will be classified as late.

Deadline: Mailed applications shall be considered as meeting an announced deadline if they are received on or before the deadline time and date at the following address: U.S. Department of Health and Human Services (HHS), Administration for Children and Families, Office of Grants Management, 370 L'Enfant Promenade, 8th floor, SW., Washington, DC 20447, Attention: Lois B. Hodge.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8:00 a.m. and 4:30 p.m., EST, at the following address: U.S. Department of Health and Human Services (HHS), Administration for Children and Families, Office of Grants Management, 901 D St Aerospace Center, ACF Mailroom, 2nd Floor, SW., Washington, DC 20447, Attention Lois B. Hodge.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
Notice of Intent | As described in Section IV and III | Per description in Section IV. Content and Form of Application Submission | By deadline date specified in DATES section of announcement.
Table of Contents | As described in Section IV | Per description in Section IV | By application due date.
Project Summary Abstract | As described in Section IV |  | By application due date.
Narrative | As described in Section V | Format described in Section V | By application due date.
SF 424, SF 424A, and SF 424B | Per required form | May be found at http://www.acf.hhs.gov/programs/ofs/forms.htm | By application due date.
Proof of Non-profit Status (if applicable) | As described in Section III and IV | Per description in Section III and IV | By application due date.
Copy of Indirect Cost rate agreement (if applicable) | As described in Section IV | Per description in Section IV | By application due date.
Certification regarding Lobbying and associated Disclosure of Lobbying Activities (SF LLL) | Per required form | May be found at http://www.acf.hhs.gov/programs/ofs/forms.htm | By application due date.
Environmental Tobacco Smoke Certification | Per required form | May be found at http://www.acf.hhs.gov/programs/ofs/forms.htm | By application due date.

Additional Forms: Private-non-profit organizations are encouraged to submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs. As of October 1, 2003, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Minnesota, Montana, Nebraska, New Jersey, Ohio, Oklahoma, Oregon, Pennsylvania, South Dakota, Tennessee, Vermont, and Virginia. Applicants from these jurisdictions need not take action.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Washington, DC 20447.

A list of the Single Points of Contact for each State and Territory is included with the application materials for this announcement.

5. Funding Restrictions

Applicants are cautioned that the ceiling for individual awards is $347,935.

Applications exceeding the $347,935 threshold will be considered non-responsive and will not be eligible for funding under this announcement.

Pre-award costs are not allowable charges to this program. Applications that include pre-award costs with their submission will be considered non-responsive and will not be eligible for funding under this announcement.

Construction is not an allowable activity or expenditure under this program. Applications that propose construction projects or expenditures will be considered non-responsive and will not be eligible for funding under this announcement.

6. Other Submission Requirements

Submission by Mail: An Applicant must provide an original application with all attachments, signed by an authorized representative and two copies. The Application must be received at the address below by 4:30 p.m. Eastern Standard Time on or before the closing date. Applications should be mailed to: U.S. Department of Health and Human Services (HHS), Administration for Children and Families, Office of Grants Management, 370 L'Enfant Promenade, 8th floor, SW., Washington, DC 20447, Attention: Lois B. Hodge.

Hand Delivery: An Applicant must provide an original application with all attachments signed by an authorized representative and two copies. The application must be received at the address below by 4:30 p.m. Eastern Standard Time on or before the closing date. Applications that are hand delivered will be accepted between the hours of 8 a.m. to 4:30 p.m., Monday through Friday. Applications may be delivered to: U.S. Department of Health and Human Services (HHS), Administration for Children and Families, Office of Grants Management, 901 D St., Aerospace Center, ACF Mailroom, 2nd Floor, SW., Washington, DC 20447, Attention: Lois B. Hodge.

Electronic Submission: Please see section IV. 2 Content and Form of Application Submission, for guidelines and requirements when submitting applications electronically.

V. Application Review Information

General Instructions for the Uniform Project Description

The following are instructions and guidelines on how to prepare the “Narrative” section of the application. Under the evaluation criteria section, note that each criterion is preceded by the generic evaluation requirement under the ACF Uniform Project Description (UPD). Public Reporting for this collection of information is estimated to average 10 hours per response, including the time for reviewing instructions, gathering and maintaining the data needed, and reviewing the collection information.

The project description is approved under OMB Control Number 0970-0139 which expires 4/30/2007.

An agency may nor conduct or sponsor, and a person is not required to respond to, a collection of information unless it displays a currently valid OMB control number.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Objectives and Need for Assistance

Clearly identify the physical, economic, social, financial, institutional, and/or other problem(s) requiring a solution. The need for assistance must be demonstrated and the principal and subordinate objectives of the project must be clearly stated. Supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

Results or Benefits Exepected

Identify the results and benefits to be derived. For example, describe how the activities that your organization undertakes will promote the full participation in the electoral process for individuals with the full range of disabilities, including registering to vote, casting a vote, and accessing polling places.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Evaluation Criteria

In considering how applicants will carry out the responsibilities addressed under this announcement, competing applications for financial assistance will be reviewed and evaluated against the following criteria:

1. Criteria

Criterion 1: Approach (Maximum 35 Points)

Applications will be evaluated based on the extent to which they discuss the criteria to be used to evaluate the results, explain the methodology that will be used to determine if the needs identified and discussed are being met, and the results and benefits identified are being achieved. Applicants will be evaluated based on the extent to which they present a plan that (1) clearly reflects an understanding of the characteristics, needs and services currently available to the targeted population; (2) provides appropriate services that directly address the needs of the target population; (3) is evidence-based and grounded in theory and practice; (4) is appropriate and feasible; and (5) can be reliably evaluated.

Applications will be evaluated based on the extent to which they outline a plan of action pertaining to the scope and detail on how the proposed work will be accomplished for each project, and include a definition of the goals and specific measurable objectives for the project; (8 points).

Applications will be evaluated based on the extent to which they identify the kinds of data to be collected and maintained and discuss the criteria to be used to evaluate the results and success of the project. For example, the applicant may provide a description of how the proposed project will be evaluated to determine the extent to which it has achieved its stated goals and objectives; the applicant may also provide a description of methods of evaluation that include the use of performance measures that are clearly related to the intended outcome of the project; (8 points).

Applications will be evaluated based on the extent to which they describe any unusual features of the project, such as design or technological innovation, reductions in cost or time, or extraordinary social and community involvement; (5 points).

Applications will be evaluated based on the extent to which they provide for each project, when possible, a quantitative description of the accomplishments to be achieved and, when quantification is not possible, a list of activities, in chronological order, to show the schedule of accomplishments and their target date; (4 points).

Applications will be evaluated based on the extent to which they describe the products to be developed during the implementation of the proposed project, such as questionnaires, interview guides, data collection instruments, software, internet applications, reports, article outcomes, evaluation results, and a dissemination plan for conveying the information; (4 points).

Applications will be evaluated based on the extent to which they cite factors which might accelerate or decelerate the work and provide reasons for taking this approach as opposed to others (3 points); and

Applications will be evaluated based on the extent to which they list each organization, operator, consultant, or other key individual who will work on the project along with a short description of the nature of their effort of contribution; (3 points).

Criterion 2: Objectives and Need for Assistance (Maximum 25 Points)

Applications will be evaluated based on the extent to which the applicant describes the context of the proposed demonstration project, including the geographic location, environment, magnitude and severity of the problem(s) to be solved and the needs to be addressed.

Applications will be evaluated based on the extent to which they demonstrate the need for assistance and describes the principal and subordinate objectives for the project; (10 points).

Applications will be evaluated based on the extent to which they specifically mention any relevant physical, economic, social, financial, institutional, or other problems requiring a solution; (5 points).

Applications will be evaluated based on the extent to which they provide supporting documentation or other testimonies from concerned interests other than the applicant; (5 points).

Applications will be evaluated based on the extent to which they provide relevant data based on planning studies (4 points); and

Applications will be evaluated based on the extent to which they provide relevant maps and other graphic aids; (1 point).

Criterion 3: Results or Benefits Expected (Maximum 20 Points)

Applications will be evaluated based on the extent to which they identify the results and benefits to be derived and the anticipated contribution to policy, practice, theory, and research.

Applications will be evaluated based on the extent to which they clearly describe the project benefits and results as they relate to the objectives of the project; (10 points).

Applications will be evaluated based on the extent to which they provide information regarding how the project will build on current theory, research, evaluation and best practices to contribute to increased knowledge and understanding of the problems, issues, or effective strategies and practices in family support; (10 points).

Criterion 4: Organizational Profile (15 Points)

Applications will be evaluated based on the extent to which they identify how the applicant organization (or the unit within the organization that will have responsibility for the project) is structured, the types and quantity of services, and the research and management capabilities it possesses. Applications will be evaluated based on the extent to which the applicant demonstrates a capacity to implement the proposed project including (1) experience with similar projects; (2) experience with the target population; (3) qualifications and experience of the project leadership; (4) commitment to developing and sustaining work among key stakeholders; (5) experience and commitment of any proposed consultants and subcontractors; and (6) appropriateness of the organizational structure, including its management information system, to carry out the project.

Application will be evaluated based on the extent to which they identify the background of the project director/principal investigator and key project staff (such as the inclusion of name, address, and training, educational background and other qualifying experience) and the extent to which they demonstrate that the experience of the organization is such that the applicant may effectively and efficiently administer this project, for example, this can include providing brief resumes of key project staff; (4 points).

Applications will be evaluated based on the extent to which they provide a brief background description of how the applicant organization is organized, the types and quantity of services it provides, and the research and management capabilities it possesses; (4 points). Applications will be evaluated based on the extent to which they describe the competence of the project team and its demonstrated ability to produce a final product that is readily comprehensible and usable (4 points); and

Applications will be evaluated based on the extent to which they demonstrate the direct relationship of the project to the applicant organization such as an organizational chart that illustrates the relationship of the project to the current organization; (3 points).

Criterion 5: Budget and Budget Justification (5 Points)

Applications will be evaluated based on the extent to which the applicant presents a budget with reasonable project costs, appropriately allocated across component areas, and sufficient to accomplish the objectives, such as the inclusion of a justification for and documentation of the dollar amount requested.

Applications will be evaluated based upon the extent to which they include a narrative budget justification that describes how the categorical costs are derived and a discussion of the reasonableness and appropriateness of the proposed costs. Line item allocations and justifications are required for Federal funds.

Applicants have the option of omitting the Social Security Numbers and specific salary rates of the proposed project personnel from the two copies submitted with the original applications to ACF. For purposes of the outside review process, applicants may elect to summarize salary information on the copies of their application. All necessary salary information must, however, appear on the signed original application for ACF.

Applications will be evaluated based on the extent to which they discuss and justify the costs of the proposed project as being reasonable and programmatically justified in view of the activities to be conducted and the anticipated results and benefits (3 points); and

Applications will be evaluated based on the extent to which they describe the fiscal control and accounting procedures that will be used to ensure prudent use, proper disbursement, and accurate accounting of funds received under this program announcement; (2 points).

2. Review and Selection Process

Each application submitted under this program announcement will undergo a pre-review to determine that (1) the application was received by the closing date and submitted in accordance with the instructions in this announcement and (2) the applicant is eligible for funding. It is necessary that applicants state specifically which funding announcement they are applying for. Applications will be screened for appropriateness. If applications are found to be inappropriate for the funding announcement in which they are submitted, applicants will be contacted for verbal approval of redirection to a more appropriate priority area. Applications which pass the initial ACF screening will be evaluated and rated by an independent review panel on the basis of specific evaluation criteria. The results of these reviews will assist the Commissioner and ADD program staff in considering competing applications. Reviewers' scores will weigh heavily in funding decisions but will not be the only factors considered. Applications generally will be considered in order of the average scores assigned by reviewers. The evaluation criteria were designed to assess the quality of a proposed project, and to determine the likelihood of its success. The evaluation criteria are closely related and are considered as a whole in judging the overall quality of an application. Points are awarded only to applications which are responsive to the evaluation criteria within the context of this program announcement. Federal reviewers will be used for the review process.

VI. Award Administration Information

1. Award Notices

The successful applicants will be notified through the issuance of a Financial Assistance Award. The Financial Assistance Award will be signed by the Grants Officer and transmitted via postal mail.

Organizations whose applications will not be funded will be notified in writing by the Administration on Developmental Disabilities.

2. Administrative and National Policy Requirements

45 CFR part 74 or 45 CFR part 92.

3. Reporting

Programmatic Reports: Semi-annually.

Financial Reports: Semi-annually.

Special Reporting Requirements: None.

All grantees are required to submit semi-annual program reports; grantees are also required to submit semi-annual expenditure reports using the required financial standard form (SF-269) which is located on the Internet at: http://forms.psc.gov/forms/sf/SF-269.pdf. A suggested format for the program report will be sent to all grantees after the awards are made.

VII. Agency Contacts

Program Office Contact: Margaret Schaefer, Administration for Children and Families, Administration on Developmental Disabilities, 370 L'Enfant Promenade, SW., Mail Stop HHH 405-D, Washington, DC 20447, Phone: (202) 690-5962, E-mail: mschaefer@acf.hhs.gov.

Grants Management Office Contact: Lois Hodge, Administration for Children and Families, Office of Grants Management, 370 Enfant Promenade, SW., Washington, DC 20447, Telephone (202) 401-2344, E-mail LHodge@acf.hhs.gov.

VIII. Other Information

Additional information about this program and its purpose can be located on the following Web sites: http://www.acf.hhs.gov/programs/add; http://www.nass.org.

Dated: May 27, 2004.
Patricia Morrissey,
Commissioner, Administration on Developmental Disabilities.

[FR Doc. 04-12892 Filed 6-7-04; 8:45 am]

BILLING CODE 4184-01-P